DEPARTMENT OF ENERGY

Federal Energy Regulatory Commission

Combined Notice of Filings

Take notice that the Commission has received the following Natural Gas Pipeline Rate and Refund Report filings:

Filings Instituting Proceedings

Docket Numbers: RP18-150-000.

Applicants: National Fuel Gas Supply Corporation.

Description: § 4(d) Rate Filing: Revised GTC 24.1 (Overbeck) to be effective 11/8/2017.

Filed Date: 11/8/17.

Accession Number: 20171108-5122.

Comments Due: 5 p.m. ET 11/20/17.

Docket Numbers: RP18-151-000.

Applicants: Rockies Express Pipeline LLC.

Description: § 4(d) Rate Filing: Neg Rate 2017-11-08 Encana to be effective 11/8/2017.

Filed Date: 11/8/17.

Accession Number: 20171108-5147.

Comments Due: 5 p.m. ET 11/20/17.

Docket Numbers: RP18-152-000.

Applicants: Natural Gas Pipeline Company of America.

Description: § 4(d) Rate Filing: Amendment to NRA Filing Tenaska Marketing Ventures RP18- to be effective 11/8/2017.

Filed Date: 11/8/17.

Accession Number: 20171108-5175.

Comments Due: 5 p.m. ET 11/20/17.

Docket Numbers: RP18-153-000.

Applicants: Northern Natural Gas Company.

Description: § 4(d) Rate Filing: 20171109 Service Agreement Form Revisions to be effective 12/9/2017.

Filed Date: 11/9/17.

Accession Number: 20171109-5048.

Comments Due: 5 p.m. ET 11/21/17.

Docket Numbers: RP18-154-000.

Applicants: Northern Natural Gas Company.

Description: § 4(d) Rate Filing: 20171109 Negotiated Rate to be effective 11/10/2017.

Filed Date: 11/9/17.

Accession Number: 20171109-5156.

Comments Due: 5 p.m. ET 11/21/17.

Docket Numbers: RP17-955-001.

Applicants: Tennessee Gas Pipeline Company, L.L.C.

Description: Report Filing: Notification of Susquehanna West Project In-Service Date RP17-955-001 CP-148-000.

Filed Date: 11/13/17.

Accession Number: 20171113-5001.

Comments Due: 5 p.m. ET 11/27/17.

Docket Numbers: RP18-155-000.

Applicants: Algonquin Gas Transmission, LLC.

Description: § 4(d) Rate Filing: Negotiated Rates—Nat Gas & Electric 795328 to be effective 11/10/2017.

Filed Date: 11/13/17.

Accession Number: 20171113-5006.

Comments Due: 5 p.m. ET 11/27/17.

Docket Numbers: RP18-156-000.

Applicants: Algonquin Gas Transmission, LLC.

Description: § 4(d) Rate Filing: Negotiated Rates—BP 511017 eff 11-10-2017 to be effective 11/10/2017.

Filed Date: 11/13/17.

Accession Number: 20171113-5007.

Comments Due: 5 p.m. ET 11/27/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 13, 2017.
Nathaniel J. Davis, Sr.,
Deputy Secretary.

[FR Doc. 2017-25056 Filed 11-17-17; 8:45 am]

BILLING CODE 6717-01-P